DEPARTMENT OF ENERGY

Federal Energy Regulatory Commission

Combined Notice of Filings #1

Take notice that the Commission received the following electric rate filings:

Docket Numbers: ER10-2906-002; ER10-2908-002; ER10-2911-002; ER10-2909-002; ER10-2910-002; ER10-2900-002; ER10-2899-002; ER10-2898-002; ER09-621-007.

Applicants: Morgan Stanley Capital Group Inc., MS Solar Solutions Corp, Naniwa Energy LLC, Power Contract Financing II, Inc., Power Contract Financing II, L.L.C., South Eastern Generating Corp., South Eastern Electric Development Corp., Utility Contract Funding II, LLC, TAQA Gen X LLC.

Description: Notice of Non-material Change in Status of Morgan Stanley Capital Group Inc., et al.

Filed Date: 08/01/2011.

Accession Number: 20110801-5226.

Comment Date: 5 p.m. Eastern Time on Monday, August 22, 2011.

Docket Numbers: ER11-2495-001.

Applicants: PPL Renewable Energy, LLC.

Description: PPL Renewable Energy, LLC submits tariff filing per 35: PPL Renewable Energy, LLC Compliance Filing to be effective 5/2/2011.

Filed Date: 08/01/2011.

Accession Number: 20110801-5159.

Comment Date: 5 p.m. Eastern Time on Monday, August 22, 2011.

Docket Numbers: ER11-2635-001; ER11-2637-001; ER11-39-002.

Applicants: Synergics Roth Rock Wind Energy, LLC, Synergics Roth Rock North Wind Energy, LLC, Flat Water Wind Farm, LLC

Description: Notice of Non-Material Change in Status of Synergics Roth Rock Wind Energy, LLC, et al.

Filed Date: 08/01/2011.

Accession Number: 20110801-5214.

Comment Date: 5 p.m. Eastern Time on Monday, August 22, 2011.

Docket Numbers: ER11-3352-001.

Applicants: Public Service Electric and Gas Company, PJM Interconnection, L.L.C.

Description: Public Service Electric and Gas Company submits tariff filing per 35: PSE&G submits update to PJM Tariff Attach H-10A per Order in Docket ER11-3352 to be effective 6/14/2011.

Filed Date: 08/01/2011.

Accession Number: 20110801-5147.

Comment Date: 5 p.m. Eastern Time on Monday, August 22, 2011.

Docket Numbers: ER11-4140-001.

Applicants: New York Independent System Operator, Inc., Niagara Mohawk Power Corporation.

Description: New York Independent System Operator, Inc. submits tariff filing per 35.17(b): Errata to Niagara Mohawk/WM Renewable SGIA to be effective 6/23/2011.

Filed Date: 08/01/2011.

Accession Number: 20110801-5153.

Comment Date: 5 p.m. Eastern Time on Monday, August 22, 2011.

Docket Numbers: ER11-4167-000.

Applicants: California Power Holdings, LLC.

Description: California Power Holdings, LLC submits tariff filing per 35.13(a)(2)(iii: Notice of Change in Status; Amendment to MBR; Request for Certain Waivers to be effective 7/30/2011.

Filed Date: 08/01/2011.

Accession Number: 20110801-5002.

Comment Date: 5 p.m. Eastern Time on Monday, August 22, 2011.

Docket Numbers: ER11-4167-000.

Applicants: California Power Holdings, LLC.

Description: California Power Holdings, LLC Requested Effective Date.

Filed Date: 08/01/2011.

Accession Number: 20110801-5116.

Comment Date: 5 p.m. Eastern Time on Monday, August 22, 2011.

Docket Numbers: ER11-4174-000.

Applicants: PJM Interconnection, L.L.C.

Description: PJM Interconnection, L.L.C. submits tariff filing per 35.13(a)(2)(iii: Revisions to the Tariff Schedules 9-1 to 9-5 to Decrease the Stated Rates to be effective 10/1/2011.

Filed Date: 08/01/2011.

Accession Number: 20110801-5134.

Comment Date: 5 p.m. Eastern Time on Monday, August 22, 2011.

Docket Numbers: ER11-4175-000.

Applicants: Arizona Public Service Company.

Description: Arizona Public Service Company submits tariff filing per 35.13(a)(2)(iii: Service Agreement No. 313 between APS and Sun Edison LLC to be effective 8/31/2011.

Filed Date: 08/01/2011.

Accession Number: 20110801-5143.

Comment Date: 5 p.m. Eastern Time on Monday, August 22, 2011.

Docket Numbers: ER11-4176-000.

Applicants: California Independent System Operator Corporation.

Description: California Independent System Operator Corporation submits tariff filing per 35.13(a)(2)(iii: 2011-08-01 CAISO's SPTC Amendment to be effective 10/1/2011.

Filed Date: 08/01/2011.

Accession Number: 20110801-5149.

Comment Date: 5 p.m. Eastern Time on Monday, August 22, 2011.

Docket Numbers: ER11-4177-000.

Applicants: Southwest Power Pool, Inc.

Description: Southwest Power Pool, Inc. submits tariff filing per 35.13(a)(2)(iii: 607R14 Westar Energy, Inc. NITSA NOA to be effective 7/1/2011.

Filed Date: 08/01/2011.

Accession Number: 20110801-5150.

Comment Date: 5 p.m. Eastern Time on Monday, August 22, 2011.

Docket Numbers: ER11-4178-000.

Applicants: Synergics Roth Rock Wind Energy, LLC.

Description: Synergics Roth Rock Wind Energy, LLC submits tariff filing per 35.13(a)(2)(iii: Notice of Succession to be effective 6/30/2011.

Filed Date: 08/01/2011.

Accession Number: 20110801-5152.

Comment Date: 5 p.m. Eastern Time on Monday, August 22, 2011.

Docket Numbers: ER11-4179-000.

Applicants: Synergics Roth Rock North Wind Energy, LLC.

Description: Synergics Roth Rock North Wind Energy, LLC submits tariff filing per 35.13(a)(2)(iii: Notice of Succession to be effective 6/30/2011.

Filed Date: 08/01/2011.

Accession Number: 20110801-5156.

Comment Date: 5 p.m. Eastern Time on Monday, August 22, 2011.

Docket Numbers: ER11-4180-000.

Applicants: Southwest Power Pool, Inc.

Description: Southwest Power Pool, Inc. submits tariff filing per 35.13(a)(2)(iii: 2166 Westar Energy, Inc. NITSA NOA to be effective 7/1/2011.

Filed Date: 08/01/2011.

Accession Number: 20110801-5158.

Comment Date: 5 p.m. Eastern Time on Monday, August 22, 2011.

Docket Numbers: ER11-4181-000.

Applicants: PJM Interconnection, L.L.C.

Description: PJM Interconnection, L.L.C. submits tariff filing per 35.13(a)(2)(iii: Queue Position W1-129; Original Service Agreement No. 2979 to be effective 6/30/2011.

Filed Date: 08/01/2011.

Accession Number: 20110801-5163.

Comment Date: 5 p.m. Eastern Time on Monday, August 22, 2011.

Docket Numbers: ER11-4182-000.

Applicants: PJM Interconnection, L.L.C.

Description: PJM Interconnection, L.L.C. submits tariff filing per 35.13(a)(2)(iii: Revisions to the PJM Reliability Assurance Agreement, Schedule 17 to be effective 6/1/2011.

Filed Date: 08/01/2011.

Accession Number: 20110801-5165.

Comment Date: 5 p.m. Eastern Time on Monday, August 22, 2011.

Docket Numbers: ER11-4183-000.

Applicants: MXenergy Electric Inc.

Description: MXenergy Electric Inc. submits tariff filing per 35.13(a)(2)(iii: MXenergy Electric Inc. Second Revised MBR Tariff to be effective 8/2/2011.

Filed Date: 08/01/2011.

Accession Number: 20110801-5170.

Comment Date: 5 p.m. Eastern Time on Monday, August 22, 2011.

Docket Numbers: ER11-4185-000.

Applicants: Midwest Independent Transmission System Operator, Inc.

Description: Annual CONE Recalculation of Midwest Independent Transmission System Operator, Inc.

Filed Date: 08/01/2011.

Accession Number: 20110801-5212.

Comment Date: 5 p.m. Eastern Time on Monday, August 22, 2011.

Take notice that the Commission received the following land acquisition reports:

Docket Numbers: LA11-2-000.

Applicants: Bluegrass Generation Company, L.L.C., DeSoto County Generating Company, LLC, Las Vegas Power Company, LLC, LS Power Marketing, LLC, LSP Safe Harbor Holdings, LLC, LSP University Park, LLC, Renaissance Power, L.L.C., Riverside Generating Company, L.L.C., Rocky Road Power, LLC, Tilton Energy LLC, University Park Energy, LLC, and Wallingford Energy LLC.

Description: Quarterly Land Acquisition Report of Bluegrass Generation Company, L.L.C., et al.

Filed Date: 08/01/2011.

Accession Number: 20110801-5196.

Comment Date: 5 p.m. Eastern Time on Monday, August 22, 2011.

Docket Numbers: LA11-2-000.

Applicants: Auburndale Peaker Energy Center, L.L.C., Bethpage Energy Center 3, LLC, Broad River Energy LLC, Calpine Bethlehem, LLC, Calpine Construction Finance Company, L.P., Calpine Energy Services, L.P., Calpine Gilroy Cogen, L.P., Calpine Greenleaf, Inc., Calpine Mid-Atlantic Generation, LLC, Calpine Mid-Atlantic Marketing, LLC, Calpine Mid-Merit, LLC, Calpine New Jersey Generation, LLC, Calpine Newark, LLC, Calpine Oneta Power, LLC, Calpine Philadelphia Inc., Calpine Power America—CA, LLC, Calpine Power America—OR, LLC, Calpine Vineland Solar, LLC, Carville Energy LLC, CES Marketing V, L.P., CES Marketing IX, LLC, CES Marketing X, LLC, Columbia Energy LLC, CPN Bethpage 3rd Turbine, Inc., Creed Energy Center, LLC, Decatur Energy Center, LLC, Delta Energy Center, LLC, Geysers Power Company, LLC, Gilroy Energy Center, LLC, Goose Haven Energy Center, LLC, Hermiston Power, LLC, KIAC Partners, Los Esteros Critical Energy Facility, LLC, Los Medanos Energy Center, LLC, Mankato Energy Center, LLC, Metcalf Energy Center, LLC, Mobile Energy, LLC, Morgan Energy Center, LLC, Nissequogue Cogen Partners, Otay Mesa Energy Center, LLC, Pastoria Energy Center, LLC, PCF2, LLC, Pine Bluff Energy, LLC, Power Contract Financing, L.L.C., Riverside Energy Center, LLC, RockGen Energy, LLC, Santa Rosa Energy Center, LLC, South Point Energy Center, LLC, TBG Cogen Partners, Zion Energy LLC.

Description: Quarterly Land Aquisition Report of Calpine Energy Services, L.P., et al.

Filed Date: 08/01/2011.

Accession Number: 20110801-5211.

Comment Date: 5 p.m. Eastern Time on Monday, August 22, 2011.

Docket Numbers: LA11-2-000.

Applicants: Alabama Electric Marketing, LLC, Big Sandy Peaker Plant, LLC, California Electric Marketing, LLC, Crete Energy Venture, LLC, High Desert Power Project, LLC, Kiowa Power Partners, LLC, Lincoln Generating Facility, LLC, New Covert Generating Company, LLC, New Mexico Electric Marketing, LLC, Rolling Hills Generating, L.L.C., Tenaska Alabama Partners, L.P., Tenaska Alabama II Partners, L.P., Tenaska Frontier Partners, Ltd., Tenaska Gateway Partners, Ltd., Tenaska Georgia Partners, L.P., Tenaska Power Services Co., Tenaska Virginia Partners, L.P., Tenaska Washington Partners, L.P., Texas Electric Marketing, LLC, TPF Generation Holdings, LLC, Wolf Hills Energy, LLC.

Description: Quarterly Land Acquisition Report of Alabama Electric Marketing, LLC, et al.

Filed Date: 08/01/2011.

Accession Number: 20110801-5213.

Comment Date: 5 p.m. Eastern Time on Monday, August 22, 2011.

Docket Numbers: LA11-2-000.

Applicants: Ashtabula Wind, LLC, Ashtabula Wind II, LLC, Ashtabula Wind III, LLC, Backbone Mountain Windpower LLC, Badger Windpower, LLC, Baldwin Wind, LLC, Bayswater Peaking Facility, LLC, Blythe Energy, LLC, Butler Ridge Wind Energy Center, LLC, Calhoun Power Company I, LLC, Crystal Lake Wind, LLC, Crystal Lake Wind II, LLC, Crystal Lake Wind III, LLC, Day County Wind, LLC, Diablo Winds, LLC, Doswell Limited Partnership, Elk City Wind, LLC, Elk City II Wind, LLC, ESI Vansycle Partners, L.P., Florida Power & Light Co., FPL Energy Burleigh County Wind, LLC, FPL Energy Cabazon Wind, LLC, FPL Energy Cape, LLC, FPL Energy Cowboy Wind, LLC, FPL Energy Green Power Wind, LLC, FPL Energy Hancock County Wind, LLC, FPL Energy Illinois Wind, LLC, FPL Energy Maine Hydro LLC, FPL Energy Marcus Hook, L.P., FPL Energy MH50 L.P., FPL Energy Montezuma Wind, LLC, FPL Energy Mower County, LLC, FPL Energy New Mexico Wind, LLC, FPL Energy North Dakota Wind, LLC, FPL Energy North Dakota Wind II, LLC, FPL Energy Oklahoma Wind, LLC, FPL Energy Oliver Wind I, LLC, FPL Energy Oliver Wind II, LLC, FPL Energy Sooner Wind, LLC, FPL Energy South Dakota Wind, LLC, FPL Energy Stateline II, Inc., FPL Energy Vansycle, LLC, FPL Energy Wyman, LLC, FPL Energy Wyman IV, LLC, FPL Energy Wyoming, LLC, FPLE Rhode Island State Energy, L.P., Garden Wind, LLC, Gray County Wind Energy, LLC, Hatch Solar Energy Center I, LLC, Hawkeye Power Partners, LLC, High Majestic Wind Energy Center, LLC, High Winds, LLC, Jamaica Bay Peaking Facility, LLC, Lake Benton Power Partners II, LLC, Langdon Wind, LLC, Logan Wind Energy LLCMeyersdale Windpower LLC, Mill Run Windpower, LLC, Minco Wind, LLC, NextEra Energy Duane Arnold, LLC, NextEra Energy Power Marketing, LLC, NextEra Energy Point Beach, LLC, NextEra Energy Seabrook, LLC, NextEra Energy Services Massachusetts, LLC, Northeast Energy Associates, LP, North Jersey Energy Associates, LP, Northern Colorado Wind Energy, LLC, Osceola Windpower, LLC, Osceola Windpower II, LLC, Paradise Solar Urban Renewal, L.L.C., Peetz Table Wind Energy, LLC, Pennsylvania Windfarms, Inc., Red Mesa Wind, LLC, Sky River LLC, Somerset Windpower, LLC, Story Wind, LLC, Victory Garden Phase IV, LLC, Waymart Wind Farm, L.P., Wessington Wind Energy Center, LLC, White Oak Energy, LLC, Wilton Wind II, LLC, NextEra Energy Companies.

Description: Second Quarter 2011 Site Control Quarterly Filing of the NextEra Energy Companies.

Filed Date: 08/01/2011.

Accession Number: 20110801-5219.

Comment Date: 5 p.m. Eastern Time on Monday, August 22, 2011.

Docket Numbers: LA11-2-000.

Applicants: Macho Springs Power I, LLC.

Description: Land Acquisition Report for Q2 2011 of Macho Springs Power I, LLC.

Filed Date: 08/01/2011.

Accession Number: 20110801-5225.

Comment Date: 5 p.m. Eastern Time on Monday, August 22, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Dated: August 2, 2011.
Kimberly D. Bose,
Secretary.

[FR Doc. 2011-20270 Filed 8-9-11; 8:45 am]

BILLING CODE 6717-01-P